DEPARTMENT OF THE INTERIOR

Fish and Wildlife Service

Endangered and Threatened Species Permit Applications

AGENCY: Fish and Wildlife Service, Interior.

ACTION: Notice of receipt of applications.

SUMMARY: The following applicants have applied for a scientific research permit to conduct certain activities with endangered species pursuant to section 10(a)(1)(A) of the Endangered Species Act of 1973, as amended (16 U.S.C. 1531, et seq.).

DATES: Written comments on these permit applications must be received within 30 days of the date of publication.

ADDRESSES: Written data or comments should be submitted to the Chief, Endangered Species Division, Ecological Services, PO Box 1306, Room 4102, Albuquerque, New Mexico 87103; (505) 248-6649; Fax (505) 248-6788. Documents will be available for public inspection by written request, by appointment only, during normal business hours (8:00 to 4:30) at the U.S. Fish and Wildlife Service, 500 Gold Ave. SW., Room 4102, Albuquerque, New Mexico. Please refer to the respective permit number for each application when submitting comments. All comments received, including names and addresses, will become part of the official administrative record and may be made available to the public.

FOR FURTHER INFORMATION CONTACT: Chief, Endangered Species Division, PO Box 1306, Room 4102, Albuquerque, New Mexico 87103. Documents and other information submitted with these applications are available for review, subject to the requirements of the Privacy Act and Freedom of Information Act, by any party who submits a written request to the address above for a copy of such documents within 30 days of the date of publication of this notice.

SUPPLEMENTARY INFORMATION:

Permit No. TE-056457

Applicant: Peter Stacey, Albuquerque, New Mexico

Applicant requests a permit for recovery purposes to conduct presence/absence and monitoring surveys for southwestern willow flycatcher (Empidonax traillii extimus) within New Mexico.

Permit No. TE-055107

Applicant: Adam Crateau, Santa Fe, New Mexico

Applicant requests a permit for recovery purposes to conduct presence/absence surveys for southwestern willow flycatcher (Empidonax traillii extimus) within San Juan Counties of New Mexico and Utah.

Permit No. TE-055111

Applicant: Animas Environmental, Farmington, New Mexico

Applicant requests a permit for recovery purposes to conduct presence/absence surveys for southwestern willow flycatcher (Empidonax traillii extimus) within San Juan County, New Mexico.

Permit No. TE-055339

Applicant: USDA, ARS, Grassland, Soil and Water Research Laboratory, Temple, Texas

Applicant requests a permit for recovery purposes to collect live plants and stem cuttings of Johnston's Frankenia (Frankenia johnstonii) within Texas.

Permit No. TE-055419

Applicant: Turner Biological Consulting, LLC, Tuscola, Texas

Applicant requests a permit for recovery purposes to conduct presence/absence surveys and assess habitat for black-capped vireo (Vireo atricapillus) and to assess habitat for northern aplomado falcon (Falco femoralis septentrionalis), golden-cheeked warbler (Dendroica chrysoparia), and interior least tern (Sterna antillarum). All activities are to occur within Texas.

Permit No. TE-035885

Applicant: Melvin J. Wilhelm, Vernon, Arizona

Applicant requests an amendment to an existing permit to allow presence/absence surveys for southwestern willow flycatcher (Empidonax traillii extimus) within Arizona and New Mexico.

Permit No. TE-056119

Applicant: Marlin B. Sawyer, San Antonio, Texas

Applicant requests a permit for recovery purposes to conduct presence/absence surveys within Texas for the following species: black-capped vireo (Vireo atricapillus), golden-cheeked warbler (Dendroica chrysoparia), red-cockaded woodpecker (Picoides borealis), ocelot (Leopardus pardalis), jaguarundi (Herpailurus yagouaroundi cacomitli), and Houston toad (Bufo houstonensis).

Permit No. TE-056118

Applicant: Charles L. Black, Albuquerque, New Mexico

Applicant requests a permit for recovery purposes to conduct presence/absence and monitoring surveys for southwestern willow flycatcher (Empidonax traillii extimus) within New Mexico.

Permit No. TE-056471

Applicant: Gregory Tickle, Santa Fe, New Mexico

Applicant requests a permit for recovery purposes to conduct presence/absence surveys within Texas for the following species: black-capped vireo (Vireo atricapillus), golden-cheeked warbler (Dendroica chrysoparia), and southwestern willow flycatcher (Empidonax traillii extimus).

Permit No. TE-038050

Applicant: Trevor Hare, Tucson, Arizona

Applicant requests an amendment to an existing permit to allow presence/absence surveys for desert pupfish (Cyprinodon macularius) and Gila topminnow (Poeciliopsis occidentalis) within Arizona.

Susan MacMullin,
Acting Assistant Regional Director, Ecological Services, Region 2, Albuquerque, New Mexico.

[FR Doc. 02-16702 Filed 7-2-02; 8:45 am]

BILLING CODE 4310-55-P